DEPARTMENT OF DEFENSE

GENERAL SERVICES ADMINISTRATION

NATIONAL AERONAUTICS AND SPACE ADMINISTRATION

48 CFR Chapter 1

Federal Acquisition Regulation; Electronic Posting of Proposed Rulemaking Withdrawals

AGENCIES: Department of Defense (DoD), General Services Administration (GSA), and National Aeronautics and Space Administration (NASA).

ACTION: Notice of electronic posting of proposed rulemaking withdrawals.

SUMMARY: The Civilian Agency Acquisition Council Chairman and the Defense Acquisition Regulations Council Chairman (Councils) are giving notice that proposed rule withdrawals will be electronically posted at http://www.acq.osd.mil/dp.dars “Defense Acquisition Regulations Directorate, Management Status Reports.”

FOR FURTHER INFORMATION CONTACT: The FAR Secretariat, Room 4035, GS Building, Washington, DC 20405, (202) 501-4755 for information pertaining to status or publication schedules. For clarification of content, contact Mr. Ralph De Stefano, Procurement Analyst, at (202) 501-1758. Please cite electronic posting of proposed rulemaking withdrawals.

SUPPLEMENTARY INFORMATION:

Background

The Councils post management and case status reports on FAR cases at http://www.acq.osd.mil/dp.dars. Management status reports provide a snapshot summary of all open cases. They are updated monthly. Specific case status reports provide additional detail on individual cases and are updated daily. This effort is part of an overall initiative to distribute acquisition-related information to industry more quickly and economically. The electronic posting of withdrawal notices of proposed rulemaking further promotes the use of cost-effective procedures and processes that employ electronic commerce in the conduct and administration of Federal procurement systems. Proposed rule withdrawal notices are and will continue to be included in the semi-annual Federal Register publication of the “Unified Agenda of Federal Regulatory and Deregulatory Actions.”

Dated: June 17, 2002.
Al Matera,
Director, Acquisition Policy Division.

[FR Doc. 02-15629 Filed 6-19-02; 8:45 am]

BILLING CODE 6820-EP-P